NUCLEAR REGULATORY COMMISSION

[NRC-2015-0226]

Review and Submission of Updates to the Final Safety Analysis Reports, Emergency Preparedness Documents, and Fire Protection Documents

AGENCY: Nuclear Regulatory Commission.

ACTION: Draft regulatory issue summary; request for comment.

SUMMARY: The U.S. Nuclear Regulatory Commission (NRC) is seeking public comment on a draft regulatory issue summary (RIS), RIS 2015-XX, “Review and Submission of Updates to the Final Safety Analysis Reports, Emergency Preparedness Documents, and Fire Protection Documents.” This RIS reminds addressees of the review and submission requirements regarding information to be withheld from public disclosure, and recommends a format for submission of updates to the Final Safety Analysis Reports (FSARs).

DATES: Submit comments by October 26, 2015. Comments received after this date will be considered if it is practical to do so, but the Commission is able to assure consideration only for comments received before this date.

ADDRESSES: You may submit comments by any of the following methods (unless this document describes a different method for submitting comments on a specific subject):

• Federal Rulemaking Web site: Go to http://www.regulations.gov and search for Docket ID NRC-2015-0226. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: O-12H8, U.S. Nuclear Regulatory Commission, Washington, DC 20555-0001.

For additional direction on obtaining information and submitting comments, see “Obtaining Information and Submitting Comments” in the SUPPLEMENTARY INFORMATION section of this document.

FOR FURTHER INFORMATION CONTACT: Matthew Humberstone, Office of Nuclear Reactor Regulation, U.S. Nuclear Regulatory Commission, Washington DC 20555-0001; telephone: 301-415-1464; email: Matthew.Humberstone@nrc.gov.

SUPPLEMENTARY INFORMATION:

I. Obtaining Information and Submitting Comments

A. Obtaining Information

Please refer to Docket ID NRC-2015-0226 when contacting the NRC about the availability of information for this action. You may obtain publicly-available information related to this action by any of the following methods:

• Federal Rulemaking Web site: Go to http://www.regulations.gov and search for Docket ID NRC-2015-0226.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft RIS, “Review and Submission of Updates to the Final Safety Analysis Reports, Emergency Preparedness Documents, and Fire Protection Documents” is available in ADAMS under Accession No. ML15177A074.

• NRC's PDR: You may examine and purchase copies of public documents at the NRC's PDR, Room O1-F21, One White Flint North, 11555 Rockville Pike, Rockville, Maryland 20852.

B. Submitting Comments

Please include Docket ID NRC-2015-0226 in the subject line of your comment submission, in order to ensure that the NRC is able to make your comment submission available to the public in this docket.

The NRC cautions you not to include identifying or contact information in comment submisssions that you do not want to be publicly disclosed in your comment submission. The NRC will post all comment submissions at http://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Background

The NRC issues RISs to communicate with stakeholders on a broad range of regulatory matters. This may include communicating and restating staff technical positions on regulatory matters. The NRC staff has developed draft RIS 2015-XX to remind licensees of the review and submission requirements of section 2.390 of Title 10 of the Code of Federal Regulations (CFR), “Public Inspections, Exemptions, Requests for Withholding,” regarding information to be withheld from public disclosure, as well as to recommend that the updates to the FSARs required by paragraph (e) of 10 CFR 50.71, “Maintenance of records, making of reports,” be made electronically on a total FSAR replacement basis, as described in paragraph (b)(6) of 10 CFR 50.4, “Written communications.”

Specifically, the NRC is issuing this RIS for the following purposes:

• To remind licensees of the potential for physical protection information, which the NRC is required to protect in the same manner as commercial or financial information for the purposes of withholding from public disclosure pursuant to 10 CFR 2.390(d)(1), to be contained in documents that will be proactively released to the public in accordance with the Commission direction in Staff Requirements Memorandum (SRM)-SECY-15-0032 (ADAMS Accession No. ML15167A090). Specifically, the NRC reminds licensees of the potential for physical protection information to be contained in Preliminary Safety Analysis Reports, FSARs, FSAR updates, and in emergency preparedness and fire protection documents, which had previously been presumptively withheld by the NRC.

• To recommend a format for submission of FSAR updates for nuclear power reactors. Research and test reactors and other non-power production and utilization facilities are not required to update their facility FSARs, unless applying for renewal of the facility license. Licensees have two submission format options regarding FSAR updates: (1) Electronically on a total FSAR replacement basis, as described in 10 CFR 50.4(b)(6), or (2) on a paper replacement page basis, as described in 10 CFR 50.71(e). Electronic submission of updates on a total FSAR replacement basis would save billable staff hours since time would not be taken to manually reconstruct sections of the FSAR for various staff reviews. Therefore, the NRC recommends that licensees voluntarily submit updates electronically (via CD or Electronic Information Exchange) on a total FSAR replacement basis. Submission of FSAR updates in this manner will also assist the NRC in its emergency response function by ensuring that recently-updated, total FSARs are available to NRC emergency response teams.

Proposed Action

The NRC is requesting public comments on draft RIS 2015-XX. The NRC staff will make a final determination regarding issuance of the RIS after it considers any public comments received in response to this request.

Dated at Rockville, Maryland, this 18th day of September 2015.
For the Nuclear Regulatory Commission.
Sheldon Stuchell,
Chief, Generic Communications Branch, Division of Policy and Rulemaking, Office of Nuclear Reactor Regulation.

[FR Doc. 2015-24301 Filed 9-24-15; 8:45 am]

BILLING CODE 7590-01-P